DEPARTMENT OF THE TREASURY

Submission for OMB Review; Comment Request

March 17, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 25, 2005 to be assured of consideration.

Internal Revenue Service (IRS)

OMB Number: 1545-1395.

Form Number: Form 8838.

Type of Review: Extension.

Title: Consent To Extend the Time To Assess Tax Under Section 367—Gain Recognition Agreement.

Description: Form 8838 is used to extend the statute of limitations for U.S. persons who transfer stock or securities to a foreign corporation. The form is filed when the transferor makes a gain recognition agreement. This agreement allows the transferor to defer the payment of tax on the transfer. The IRS uses Form 8838 so that it may assess tax against the transferor after the expiration of the original statute of limitations.

Respondents: Individuals or Households, Business or other for-profit.

Estimated Number of Respondents/Recordkeepers: 1,000.

Estimated Burden Hours Respondent/Recordkeeper:

Recordkeeping—4 hrs 18 min.

Learning about the law or the form—1 hr 53 min.

Preparing the form—2 hrs and 2 min.

Copying, assembling, and sending the form to the IRS—16 min.

Frequency of Response: On Occasion.

Estimated Total Reporting Burden: 8,230 Hours.

OMB Number: 1545-1420.

Form Number: Form 8849.

Type of Review: Extension.

Title: Claim for Refund of Excise Taxes.

Description: IRC sections 6402, 6404, and sections 301.6402-2, 301-6404-3 of the regulations, allow for refunds of taxes (except Income taxes) or refund, abatement, or credit of interest, penalties, and additions to tax in the event of errors or certain actions by IRS. Form 8849 is used by taxpayers to claim refunds of excise taxes.

Respondents: Individuals or Households, Business or other for-profit, Not-for-profit institutions, Farms, Federal Government, State, local or tribal government.

Estimated Number of Respondents: 125,292.

Estimated Burden Hours Respondent: 14 Hours and 56 Minutes.

Frequency of response: Quarterly, Annually.

Estimated Total Reporting Burden: 1,871,713 Hours.

Clearance Officer: Glenn P. Kirkland, (202) 622-3428, Internal Revenue Service, Room 6516, 1111 Constitution Avenue, NW., Washington, DC 20224.

OMB Reviewer: Joseph F. Lackey, Jr., (202) 395-7316, Office of Management and Budget, Room 10235, New Executive Office Building, Washington, DC 20503.

Christopher Davis,
Treasury PRA Assistant.

[FR Doc. 05-5927 Filed 3-24-05; 8:45 am]

BILLING CODE 4830-01-P